DEPARTMENT OF TRANSPORTATION

Federal Aviation Administration

14 CFR Part 73

[Docket No. FAA-2014-0703; Airspace Docket No. 13-ASO-22]

RIN 2120-AA66

Amendment of Restricted AreasR-2901A, B, G, H, J, K, L and N; Avon Park, FL

AGENCY: Federal Aviation Administration (FAA), DOT.

ACTION: Final rule.

SUMMARY: This action makes minor adjustments to the latitude/longitude positions of two points in the descriptions of restricted areas R-2901A, B, G, H, J, K, L and N at the Avon Park Air Force Range, FL. The corrections are the result of more accurate digital plotting of the points.

DATES: Effective date 0901 UTC, November 13, 2014.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Background

A review of the descriptions of restricted areas R-2901A, B, G, H, J, K, L and N at the Avon Park Air Force Range, FL, identified the need to update two points common to the boundaries of several of the restricted areas. The changes are needed to fix slight mismatches in the descriptions of common boundaries between the areas. Because the differences are minor, they are not apparent on Sectional Aeronautical Charts, but with the transition to more precise digital charting databases, the mismatches require resolution.

This action does not affect the descriptions of restricted areas R-2901C, D, E, F, I or M at the Avon Park Range.

The Rule

This action amends Title 14 Code of Federal Regulations (14 CFR) part 73 to update certain latitude/longitude coordinates in the boundary descriptions of restricted areas R-2901A, B, G, H, J, K, L, and N, Avon Park, FL. A review of the descriptions revealed slight mismatches in the common boundaries shared by these areas. Specifically, the point “lat. 27°32′31″ N., long. 81°07′29″ W.” is changed by 6 seconds of longitude to read “lat. 27°32′31″ N., long. 81°07′23″ W.” This point appears in the boundary descriptions of R-2901A, B, G, J, K, L and N.

This action also changes the point “lat. 27°29′31″ N., long. 81°05′29″ W.” by 2 seconds of longitude to read “lat. 27°29′31″ N., long. 81°05′27″ W.” This point appears in the boundary descriptions of R-2901B, G, H, J, K, L and N; and in the designated altitudes description of R-2901N.

This is a minor editorial change to provide more accurate points in the descriptions of the affected restricted areas. It does not change the actual location or use of the restricted areas; therefore, I find that notice and public procedure under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as amends the boundary descriptions of restricted areas at the Avon Park, FL, range complex to more accurately align common airspace boundaries.

Environmental Review

The FAA has determined that this action qualifies for categorical exclusion under the National Environmental Policy Act in accordance with FAA Order 1050.1E, Environmental Impacts: Policies and Procedures, paragraph 311d. This airspace action is a minor editorial change to the technical descriptions of the affected restricted areas to reflect more accurate digital plotting data. It does not alter the actual location or use of the restricted areas at the Avon Park Air Force Range, FL; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.29 [Amended]

2. Section 73.29 is amended as follows:

* * * * *

R-2901A Avon Park, FL [Amended]

By removing the current boundaries and inserting the following:

Boundaries. Beginning at lat. 27°44′46″ N., long. 81°25′19″ W.; to lat. 27°44′46″ N., long. 81°11′39″ W.; to lat. 27°35′01″ N., long. 81°08′59″ W.; to lat. 27°32′31″ N., long. 81°07′23″ W.; to lat. 27°29′01″ N., long. 81°13′29″ W.; to lat. 27°32′37″ N., long. 81°16′46″ W.; to lat. 27°32′33″ N., long. 81°21′39″ W.; to lat. 27°42′01″ N., long. 81°25′19″ W.; to the point of beginning.

R-2901B Avon Park, FL [Amended]

By removing the current boundaries and inserting the following:

Boundaries. Beginning at lat. 28°00′01″ N., long. 81°20′59″ W.; to lat. 28°00′01″ N., long. 81°13′59″ W.; to lat. 27°44′46″ N., long. 81°13′59″ W.; to lat. 27°44′46″ N., long. 81°11′39″ W.; to lat. 27°35′01″ N., long. 81°08′59″ W.; to lat. 27°32′31″ N., long. 81°07′23″ W.; to lat. 27°29′31″ N., long. 81°05′27″ W.; to lat. 27°21′01″ N., long. 80°59′59″ W.; to lat. 27°16′46″ N., long. 81°05′59″ W.; to lat. 27°24′46″ N., long. 81°10′59″ W.; to lat. 27°30′46″ N., long. 81°17′49″ W.; to lat. 27°32′33″ N., long. 81°21′39″ W.; to lat. 27°42′01″ N., long. 81°25′19″ W.; to lat. 27°55′01″ N., long. 81°25′19″ W.; to the point of beginning.

R-2901G Avon Park, FL [Amended]

By removing the current boundaries and inserting the following:

Boundaries. Beginning at lat. 27°29′01″ N., long. 81°13′29″ W.; to lat. 27°32′31″ N., long. 81°07′23″ W.; to lat. 27°29′31″ N., long. 81°05′27″ W.; to lat. 27°24′46″ N., long. 81°10′59″ W.; to the point of beginning.

R-2901H Avon Park, FL [Amended]

By removing the current boundaries and inserting the following:

Boundaries. Beginning at lat. 27°24′46″ N., long. 81°10′59″ W.; to lat. 27°29′31″ N., long. 81°05′27″ W.; to lat. 27°21′01″ N., long. 80°59′59″ W.; to the point of beginning.

R-2901J Avon Park, FL [Amended]

By removing the current boundaries and inserting the following:

Boundaries. Beginning at lat. 28°00′01″ N., long. 81°20′59″ W.; to lat. 28°00′01″ N., long. 81°13′59″ W.; to lat. 27°44′46″ N., long. 81°13′59″ W.; to lat. 27°44′46″ N., long. 81°11′39″ W.; to lat. 27°35′01″ N., long. 81°08′59″ W.; to lat. 27°32′31″ N., long. 81°07′23″ W.; to lat. 27°29′31″ N., long. 81°05′27″ W.; to lat. 27°21′01″ N., long. 80°59′59″ W.; to lat. 27°16′46″ N., long. 81°05′59″ W.; to lat. 27°24′46″ N., long. 81°10′59″ W.; to lat. 27°30′46″ N., long. 81°17′49″ W.; to lat. 27°32′33″ N., long. 81°21′39″ W.; to lat. 27°42′01″ N., long. 81°25′19″ W.; to lat. 27°55′01″ N., long. 81°25′19″ W.; to the point of beginning.

R-2901K Avon Park, FL [Amended]

By removing the current boundaries and inserting the following:

Boundaries. Beginning at lat. 28°00′01″ N., long. 81°20′59″ W.; to lat. 28°00′01″ N., long. 81°13′59″ W.; to lat. 27°44′46″ N., long. 81°13′59″ W.; to lat. 27°44′46″ N., long. 81°11′39″ W.; to lat. 27°35′01″ N., long. 81°08′59″ W.; to lat. 27°32′31″ N., long. 81°07′23″ W; to lat. 27°29′31″ N., long. 81°05′27″ W., to lat. 27°21′01″ N., long. 80°59′59″ W.; to lat. 27°16′46″ N., long. 81°05′59″ W.; to lat. 27°24′46″ N., long. 81°10′59″ W.; to lat. 27°30′46″ N., long. 81°17′49″ W.; to lat. 27°32′33″ N., long. 81°21′39″ W.; to lat. 27°42′01″ N., long. 81°25′19″ W.; to lat. 27°55′01″ N., long. 81°25′19″ W.; to the point of beginning.

R-2901L Avon Park, FL [Amended]

By removing the current boundaries and inserting the following:

Boundaries. Beginning at lat. 28°00′01″ N., long. 81° 20′59″ W.; to lat. 28°00′01′ N., long. 81° 13′59″ W.; to lat. 27°44′46″ N., long. 81° 13′59″ W.; to lat. 27°44′46″ N., long. 81° 11′39″ W.; to lat. 27°35′01″ N., long. 81° 08′59″ W.; to lat. 27°32′31″ N., long. 81° 07′23″ W.; to lat. 27°29′31″ N., long. 81° 05′27″ W.; to lat. 27°21′01″ N., long. 80° 59′59″ W.; to lat. 27°16′46″ N., long. 81° 05′59″ W.; to lat. 27°24′46″ N., long. 81° 10′59″ W.; to lat. 27°30′46″ N., long. 81° 17′49″ W.; to lat. 27°32′33″ N., long. 81° 21′39″ W.; to lat. 27°42′01″ N., long. 81° 25′19″ W.; to lat. 27°55′01″ N., long. 81° 25′19″ W.; to the point of beginning.

R-2901N Avon Park, FL [Amended]

By removing the current boundaries and designated altitudes and inserting the following:

Boundaries. Beginning at lat. 27°32′33″ N., long. 81°21′39″ W.; to lat. 27°32′37″ N., long. 81°16′46″ W.; to lat. 27°29′01″ N., long. 81°13′29″ W.; to lat. 27°32′31″ N., long. 81°07′23″ W.; to lat. 27°29′31″ N., long. 81°05′27″ W.; to lat. 27°21′01″ N., long. 80°59′59″ W.; to lat. 27°16′46″ N., long. 81°05′59″ W.; to lat. 27°24′46″ N., long. 81°10′59″ W.; to lat. 27°30′46″ N., long. 81°17′49″ W.; to the point of beginning.

Designated altitudes. 5,000 feet MSL to but not including 14,000 feet MSL north of a line from lat. 27°24′46″ N., long. 81°10′59″ W.; to lat. 27°29′31″ N., long. 81°05′27″ W.; 4,000 feet MSL to but not including 14,000 feet MSL south of that line.

Issued in Washington, DC, on September 11, 2014.
Ellen Crum,
Acting Manager, Airspace Policy and Regulations Group.

[FR Doc. 2014-22231 Filed 9-16-14; 8:45 am]

BILLING CODE 4910-13-P